COMMODITY FUTURES TRADING COMMISSION

Sunshine Act Meetings

FEDERAL REGISTER CITATION OF PREVIOUS ANNOUNCEMENT: 87 FR 57486, September 20, 2022.

PREVIOUSLY ANNOUNCED TIME AND DATE OF THE MEETING: 10:30 a.m. EDT, Thursday, September 22, 2022.

CHANGES IN THE MEETING: The time and date of the meeting have changed. This meeting will now start at 1:00 p.m. EDT on Tuesday, September 27, 2022. The meeting place, Closed status, and matters to be considered, as previously announced, remain unchanged.

CONTACT PERSON FOR MORE INFORMATION: Christopher Kirkpatrick, 202-418-5964.

Authority: 5 U.S.C. 552b.

Dated: September 21, 2022.
Christopher Kirkpatrick,
Secretary of the Commission.

[FR Doc. 2022-20817 Filed 9-21-22; 4:15 pm]

BILLING CODE 6351-01-P